DEPARTMENT OF HEALTH AND HUMAN SERVICES

Centers for Disease Control and Prevention

[Program Announcement 02094]

Division of International Health/Global Surveillance Project Strengthening Outbreak Investigations and Response in Tanzania; Notice of Award of Funds

A. Purpose

The Centers for Disease Control and Prevention (CDC) announces the award of fiscal year (FY) 2002 funds for a cooperative agreement program for the Division of International Health/Global Surveillance Project Strengthening Outbreak Investigations and Response in Tanzania. This program addresses the “Healthy People 2010” focus area of Public Health Infrastructure.

The purpose of the program is to strengthen the ability of the Ministry(s) of Health (MOH) to identify, investigate, analyze, respond to and report on disease outbreaks and other unusual health events. By doing so, the agreement will result in strengthening the applied public health programs through the World Health Organization (WHO) Country Office in Dar es Salaam, Tanzania.

B. Eligible Applicants

Assistance will be provided only to the WHO Country Office in Dar es Salaam, Tanzania. No other applications are solicited.

The WHO Country Office in Dar es Salaam is uniquely qualified as a partner since it serves as consultant to the MOH in implementing and administering Public Health programs in Tanzania. This office maintains the only polio surveillance and outbreak response systems for the MOH in the country.

Note: Title two of the United States Code section 1611 states that an organization described in section 501(c)(4) of the Internal Revenue Code that engages in lobbying activities is not eligible to receive Federal funds constituting an award, grant or loan.

C. Funds

$40,000 is being awarded in FY 2002 for one award. The award began on or about June 1, 2002, and will be made for a 12-month budget period within a project period of up to three years. Funding estimates may change.

D. Where To Obtain Additional Information

This and other CDC announcements can be found on the CDC home page Internet address— http://www.cdc.gov Click on “Funding” then “Grants and Cooperative Agreements.”

To obtain business management technical assistance, contact: Cynthia Collins, Grants Management Specialist, Grants Management Branch, Procurement and Grants Office, Centers for Disease Control and Prevention, 2920 Brandywine Road, Room 3000, Atlanta, GA 30341-4146, Telephone number (770) 488-2757, e-mail address coc9@cdc.gov.

For program technical assistance, contact:

Dr. Peter Nsubuga, Medical Epidemiologist, Division of International Health, Epidemiology Program Office, Centers for Disease Control and Prevention, 4770 Buford Highway, MS-K72, Atlanta, GA 30341, Telephone number (770) 488-8334, e-mail address pcn0@cdc.gov.

Or

Mr. B.J. (Bassam) Jarrar, Public Health Advisor, Division of International Health, Epidemiology Program Office, Centers for Disease Control and Prevention, 4770 Buford Highway, MS-K72, Atlanta, GA 30341, Telephone number (770) 488-8330, e-mail address bmj0@cdc.gov.

Dated: October 9, 2002.
Edward Schultz,
Acting Director, Procurement and Grants Office, Centers for Disease Control and Prevention.

[FR Doc. 02-26540 Filed 10-17-02; 8:45 am]

BILLING CODE 4163-18-P